DEPARTMENT OF THE TREASURY

Submission for OMB Review; Comment Request

November 24, 2014.

The Department of the Treasury will submit the following information collection requests to the Office of Management and Budget (OMB) for review and clearance in accordance with the Paperwork Reduction Act of 1995, Public Law 104-13, on or after the date of publication of this notice.

DATES: Comments should be received on or before December 29, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission may be obtained by emailing PRA@treasury.gov, calling (202) 927-5331, or viewing the entire information collection request at www.reginfo.gov.

Alcohol and Tobacco Tax and Trade Bureau (TTB)

OMB Number: 1513-0021.

Type of Review: Revision of a currently approved collection.

Title: Formula and Process for Non Beverage Product.

Form: TTB F 5154.1.

Abstract: Businesses using taxpaid distilled spirits to manufacture non-beverage products may receive drawback (i.e., a refund or remittance) of tax, if they can show that the spirits were used in the manufacture of products unfit for beverage use. This showing is based on the formula for the product, which is submitted on TTB Form 5154.1.

Affected Public: Private Sector: Businesses or other for-profits.

Estimated Annual Burden Hours: 2,953.

Dawn D. Wolfgang,
Treasury PRA Clearance Officer.

[FR Doc. 2014-28090 Filed 11-26-14; 8:45 am]

BILLING CODE 4810-31-P